DEPARTMENT OF JUSTICE

Notice of Extended Opportunity To Comment on Proposed Consent Decree Under the Clean Air Act

On April 17, 2017, the Department of Justice lodged a proposed Consent Decree with the United States District Court for the District of Alaska in the lawsuit entitled United States and State of Alaska v. Westward Seafoods, Inc., Civil Action No. 3:17-cv-00087-TMB. On April 24, 2017, the Notice of Lodging of Proposed Consent Decree was published in the Federal Register at 82 FR 18928. The original comment period was to extend through May 24, 2017. The United States is now extending the comment period as set forth below.

This Consent Decree resolves disputes against Westward Seafoods, Inc. with respect to violations of the Clean Air Act at Westward's seafood processing facility in Dutch Harbor, Alaska. Coincidental with the entry of the Consent Decree we are also resolving claims for stipulated penalties for violations of a Consent Decree entered into with Westward regarding this facility in 2010 involving the Facility (“2010 Decree”). The same set of facts give rise to the violations of the CAA and the stipulated penalty provisions of the 2010 Decree.

The Consent Decree requires a penalty of $570,000 ($228,000 to the state of Alaska and $342,000 to the United States). Moreover, Westward has to pay $730,000 to resolve the Stipulated Penalty claims. Hence, Westward will pay a total of $1,300,000 in penalties. In addition, the Consent Decree requires that: (1) Westward undertake injunctive relief relating to improved operation and maintenance procedures and employee training focused on the key power generators; (2) Westward be subject to Third Party Verification regarding compliance with the Decree and with Westward's Clean Air Act permit; and (3) Westward implement two mitigation projects.

This publication of this notice holds opens the period for public comment on the Consent Decree. Comments should be addressed to the Assistant Attorney General, Environment and Natural Resources Division, and should refer to United States and State of Alaska v. Westward Seafoods, Inc., Civil Action No. 3:17-cv-00087-TMB, D.J. Ref. No. 90-5-2-1-09168/1. All comments must be submitted no later than twenty (20) days after the publication date of this notice. Comments may be submitted either by email or by mail:

To submit comments: | Send them to:
By email | pubcomment-ees.enrd@usdoj.gov.
By mail | Assistant Attorney General, U.S. DOJ-ENRD, P.O. Box 7611, Washington, DC 20044-7611.

During the public comment period, the Consent Decree may be examined and downloaded at this Justice Department Web site: https://www.justice.gov/enrd/consent-decrees. We will provide a paper copy of the Consent Decree upon written request and payment of reproduction costs. Please mail your request and payment to: Consent Decree Library, U.S. DOJ-ENRD, P.O. Box 7611, Washington, DC 20044-7611.

Please enclose a check or money order for $36.75 (25 cents per page reproduction cost) payable to the United States Treasury. For a paper copy without the exhibits, the cost is $17.00.

Susan M. Akers,
Assistant Section Chief, Environmental Enforcement Section, Environment and Natural Resources Division.

[FR Doc. 2017-12206 Filed 6-12-17; 8:45 am]

BILLING CODE 4410-15-P